DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of May 2, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 4, 2016.
Roy E. Wright,
Deputy Associate Administrator for Insurance and Mitigation, Department of Homeland Security, Federal Emergency Management Agency.

I. Watershed-based studies:

Community | Community map repository address
Upper Choctawhatchee Watershed
Coffee County, Alabama, and Incorporated Areas
Docket No.: FEMA-B-1461
City of Enterprise | City Hall, 501 South Main Street, Enterprise, AL 36330.
Town of New Brockton | Town Hall, 706 East McKinnon Street, New Brockton, AL 36351.
Unincorporated Areas of Coffee County | 8 County Complex, 1065 East McKinnon Street, New Brockton, AL 36351.
Dale County, Alabama, and Incorporated Areas
Docket No.: FEMA-B-1461
City of Daleville | City Hall, 740 South Daleville Avenue, Daleville, AL 36322.
City of Enterprise | City Hall, 501 South Main Street, Enterprise, AL 36330.
City of Fort Rucker | Emergency Management Agency, 453 Novosel Street, Building 114, Fort Rucker, AL 36362.
City of Level Plains | City Hall, 1708 Joe Bruer Road, Daleville, AL 36322.
City of Midland City | City Hall, 1385 Hinton Waters Avenue, Midland City, AL 36350.
City of Ozark | City Hall, 275 North Union Avenue, Ozark, AL 36360.
Town of Ariton | Town Hall, 6 East Main Street, Ariton, AL 36311.
Town of Clayhatchee | Town Hall, 1 West Main Street, Daleville, AL 36322.
Town of Newton | Town Hall, 209 Oates Drive, Newton, AL 36352.
Town of Pinckard | Town Hall, 1309 East Highway 134, Pinckard, AL 36371.
Unincorporated Areas of Dale County | Dale County Courthouse, 100 East Court Square, Ozark, AL 36360.
Geneva County, Alabama, and Incorporated Areas
Docket No.: FEMA-B-1461
City of Geneva | City Hall, 517 South Commerce Street, Geneva, AL 36340.
City of Hartford | City Hall, 203 West Main Street, Hartford, AL 36344.
City of Slocomb | City Hall, 263 East Lawrence Harris Highway, Slocomb, AL 36375.
Town of Coffee Springs | Town Office, 222 East Spring Street, Coffee Springs, AL 36318.
Town of Malvern | Town Hall, 312 South Main Street, Malvern, AL 36349.
Unincorporated Areas of Geneva County | Geneva County Emergency Management Agency, 200 South Commerce Street, Geneva, AL 36340.
Houston County, Alabama, and Incorporated Areas
Docket No.: FEMA B-1461
Unincorporated Areas of Houston County | Houston County Engineer's Office, 2400 Columbia Highway, Dothan, AL 36303.
East Nishnabotna Watershed
Audubon County, Iowa, and Incorporated Areas
Docket No.: FEMA-B-1436
City of Audubon | City Hall, 410 North Park Place, Audubon, IA 50025.
City of Brayton | City Hall, 202 County Trunk Road, Brayton, IA 50042.
City of Exira | City Hall, 108 East Washington Street, Exira, IA 50076.
City of Gray | Audubon County Courthouse, 318 Leroy Street, Suite 4, Audubon, IA 50025.
City of Kimballton | City Hall, 116 North Main Street, Kimballton, IA 51543.
Unincorporated Areas of Audubon County | Audubon County Courthouse, 318 Leroy Street, Suite 4, Audubon, IA 50025.
Montgomery County, Iowa, and Incorporated Areas
Docket No.: FEMA-B-1436
City of Coburg | Montgomery County Courthouse, 105 East Coolbaugh Street, Red Oak, IA 51566.
City of Elliott | Clerk's Office, 409 Main Street, Elliott, IA 51532.
City of Grant | Montgomery County Courthouse, 105 East Coolbaugh Street, Red Oak, IA 51566.
City of Red Oak | City Hall, 601 North 6th Street, Red Oak, IA 51566.
City of Stanton | City Hall, 310 Broad Avenue, Stanton, IA 51573.
City of Villisca | City Hall, 318 South 3rd Avenue, Villisca, IA 50864.
Unincorporated Areas of Montgomery County | Montgomery County Courthouse, 105 East Coolbaugh Street, Red Oak, IA 51566.
Lower Big Blue Watershed
Gage County, Nebraska, and Incorporated Areas
Docket No.: FEMA-B-1459
Unincorporated Areas of Gage County | Gage County Highway Department, 823 South 8th Street, Beatrice, NE 68310.
Village of Barneston | Village Hall, 102 Grand Avenue, Barneston, NE 68309.

II. Non-watershed-based studies:

Community | Community map repository address
Socorro County, New Mexico, and Incorporated Areas
Docket No.: FEMA B-1239
City of Socorro | City Hall, 111 School of Mines Road, Socorro, NM 87801.
Navajo Nation | Socorro County Annex Building, 198 Neel Avenue, Socorro, NM 87801.
Pueblo of Acoma | Realty and Natural Resources Offices, 33 A Pinsbaari Drive, Pueblo of Acoma, NM 87034.
Unincorporated Areas of Socorro County | Socorro County Annex Building, 198 Neel Avenue, Socorro, NM 87801.
Village of Magdalena | City Hall, 108 North Main Street, Suite B, Magdalena, NM 87825.

[FR Doc. 2016-04878 Filed 3-4-16; 8:45 am]

BILLING CODE 9110-12-P